DEPARTMENT OF HEALTH AND HUMAN SERVICES

Centers for Medicare & Medicaid Services

42 CFR Part 447

Payments for Services

CFR Correction

In Title 42 of the Code of Federal Regulations, Parts 430 to 481, revised as of October 1, 2013, on page 403, remove the undesignated center heading above § 447.88.

[FR Doc. 2014-18426 Filed 8-1-14; 8:45 am]

BILLING CODE 1505-01-D